DEPARTMENT OF ENERGY

Federal Energy Regulatory Commission

[Project No. 14370-000]

Willwood Irrigation District; Notice of Preliminary Permit Application Accepted for Filing and Soliciting Comments, Motions To Intervene, and Competing Applications

On March 12, 2012, the Willwood Irrigation District filed an application for a preliminary permit, pursuant to section 4(f) of the Federal Power Act (FPA), proposing to study the feasibility of the Deer Creek Hydropower Project (Deer Creek Project or project) to be located on the Willwood Irrigation District's Main Canal, near Powell, Park County, Wyoming. The sole purpose of a preliminary permit, if issued, is to grant the permit holder priority to file a license application during the permit term. A preliminary permit does not authorize the permit holder to perform any land-disturbing activities or otherwise enter upon lands or waters owned by others without the owners' express permission.

The proposed project would consist of the following: (1) A diversion structure and penstock intake; (2) a 350-foot-long, 6-foot-diameter penstock; (3) a powerhouse containing one turbine rated for 780 kilowatts at 43.08 feet of net head; (4) a 75-foot-long, 8-foot-diameter reinforced concrete tailrace; (5) a 3.5-mile-long, 12.5-kilovolt transmission line extending from the project to an existing transmission line (the point of interconnection); and (6) appurtenant facilities. The estimated annual generation of the Deer Creek Project would be 2.58 gigawatt-hours.

Applicant Contacts: Mr. Tom Walker, Willwood Irrigation District, 1306 Road 9, Powell, Wyoming, 82435; phone: (307) 754-3831. Mr. Keith Murray, Willwood Irrigation District, 1306 Road 9, Powell, Wyoming, 82435; phone: (307) 754-3831.

FERC Contact: Kim Nguyen at kim.nguyen@ferc.gov; phone: (202) 502-6105.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14370) in the docket number field to access the document. For assistance, contact FERC Online Support.

Dated: May 10, 2012.
Kimberly D. Bose,
Secretary.

[FR Doc. 2012-11835 Filed 5-15-12; 8:45 am]

BILLING CODE 6717-01-P